DEPARTMENT OF DEFENSE

Department of the Army

Intent To Grant an Exclusive License

AGENCY: Department of the Army, DoD.

ACTION: Notice.

SUMMARY: In accordance with 35 U.S.C. 209(e) and 37 CFR 404.7(a)(l)(i), announcement is made of the intent to grant an exclusive, royality bearing, revocable license for the U.S. Patent Application listed below to Precision Lift, Inc. with its principal place of business at 4765 Highway 89, Monarch, MT 59463.

FOR FURTHER INFORMATION CONTACT: Mr. Robert Rosenkrans at U.S. Army Soldier Systems Center, Kansas Street, Natick, MA 01760, Phone; (508) 233-4928 or E-mail: Robert.Rosenkrans@natick.army.mil.

DATES: File written objections by July 6, 2004.

SUPPLEMENTARY INFORMATION: The exclusive license will be royalty bearing and will comply with the terms and conditions of 35 U.S.C. 209 and 37 CFR 404.7. The exclusive licenses may be granted, unless within fifteen (15) days from the date of this published notice, SSC receives written evidence and argument to establish that the grant of the license would not be consistent with the requirements of 35 U.S.C. 209 and 37 CFR 404.7.

The following Patent Application Number, Title and File date are provided:

Patent Application: 10/802,083.

Title: “Spreader Bar Apparatus”

Filed: March 10, 2004.

Brenda S. Bowen,
Alternate Federal Register Liaison Officer.

[FR Doc. 04-13921 Filed 6-18-04; 8:45 am]

BILLING CODE 3710-08-M